FEDERAL MARITIME COMMISSION

[Docket No. 26-02]

Nancy Prior, Complainant v. AMOOV Group; FreightLead LLC; and Air 7 Seas Transport Logistics, Inc., Respondents; Notice of Filing of Complaint and Assignment

Notice is given that a complaint has been filed with the Federal Maritime Commission (the “Commission”) by Nancy Prior (the “Complainant”) against AMOOV Group; FreightLead LLC; Air 7 Seas Transport Logistics, Inc. (the “Respondents”). Complainant states that the Commission has jurisdiction over the complaint pursuant to the Shipping Act of 1984, 46 U.S.C. 41301(a), and over Respondents FreightLead LLC and Air 7 Seas Transport Logistics, Inc. as licensed ocean transportation intermediaries.

Complainant is an individual residing in Fort Lauderdale, Florida and is the sole contracting party and owner of the household goods shipment at issue.

Complainant identifies Respondent AMOOV Group with a mailing address in Lille, France.

Complainant identifies Respondent FreightLead LLC as a licensed ocean transportation intermediary with a mailing address in Parsippany, New Jersey.

Complainant identifies Respondent Air 7 Seas Transport Logistics, Inc. as a licensed ocean transportation intermediary with a mailing address in Milpitas, California.

Complainant alleges that Respondents violated 46 U.S.C. 41102(c). Complainant alleges that these violations arose from Respondents' refusal to provide an unredacted master bill of lading, withholding of Complainant's shipment due to a dispute between Respondents, and other acts or omissions by Respondents.

An answer to the complaint must be filed with the Commission within 25 days after the date of service.

The full text of the complaint can be found in the Commission's electronic Reading Room at https://www2.fmc.gov/readingroom/proceeding/26-02. This proceeding has been assigned to the Office of Administrative Law Judges. The initial decision of the presiding judge shall be issued by January 14, 2027, and the final decision of the Commission shall be issued by July 28, 2027.

(Authority: 46 U.S.C. 41301; 46 CFR 502.61(c))

Served: January 14, 2026.
David Eng,
Secretary.

[FR Doc. 2026-00874 Filed 1-15-26; 8:45 am]

BILLING CODE 6730-02-P